DEPARTMENT OF TRANSPORTATION

Saint Lawrence Seaway Development Corporation

Saint Lawrence Seaway Development Corporation Advisory Board—Notice of Public Meetings

AGENCY: Saint Lawrence Seaway Development Corporation (SLSDC); USDOT.

ACTION: Notice of public meeting.

SUMMARY: This notice announces the public meeting via conference call of the Saint Lawrence Seaway Development Corporation Advisory Board.

DATES: The public meeting will be held on (all times Eastern):

• Monday, March 9, 2020 from 2:00 p.m.-3:30 p.m. EST.

• Requests to attend the meeting must be received by Monday, March 2, 2020.

• If you wish to speak during the meeting, you must submit a written copy of your remarks to the individual listed in the FOR FURTHER INFORMATION CONTACT section by March 2, 2020.

ADDRESSES: The meeting will be held via conference call at the SLSDC's Operations location, 180 Andrews Street, Massena, New York 13662.

Teleconference call-in Information: (877) 336-1839; Passcode: 1592755#.

FOR FURTHER INFORMATION CONTACT: Wayne Williams, Chief of Staff, Saint Lawrence Seaway Development Corporation, 1200 New Jersey Avenue SE, Washington, DC 20590; 202-366-0091.

SUPPLEMENTARY INFORMATION: Pursuant to Section 10(a)(2) of the Federal Advisory Committee Act (Pub. L. 92-463; 5 U.S.C. App. 2), notice is hereby given of a meeting of the Advisory Board of the Saint Lawrence Seaway Development Corporation (SLSDC). The agenda for this meeting will be as follows:

March 9, 2020 From 2:00 p.m.-3:30 p.m. EST

1. Opening Remarks

2. Consideration of Minutes of Past Meeting

3. Quarterly Report

4. Old and New Business

5. Closing Discussion

6. Adjournment

Public Participation

Attendance at the meeting is open to the interested public. The U.S. Department of Transportation is committed to providing equal access to this meeting for all participants. If you need alternative formats or services because of a disability, such as sign language, interpretation, or other ancillary aids, please contact Wayne Williams at 202-366-0091 by March 2, 2020. With the approval of the Administrator, members of the public may present oral statements at the meeting. Persons wishing to obtain further information should contact Wayne Williams at 202-366-0091. Any member of the public may present a written statement to the Advisory Board at any time.

Carrie Lavigne,
Chief Counsel, Saint Lawrence Seaway Development Corporation.

[FR Doc. 2020-03448 Filed 2-20-20; 8:45 am]

BILLING CODE 4910-61-P